DEPARTMENT OF COMMERCE

International Trade Administration

[A-570-852]

Creatine Monohydrate From the People's Republic of China: Revocation of Antidumping Duty Order

AGENCY: Import Administration, International Trade Administration, Department of Commerce.

SUMMARY: On January 3, 2005, the Department of Commerce (“the Department”) initiated the sunset review of the antidumping duty order on creatine monohydrate from the People's Republic of China (70 FR 75). Because the domestic interested parties did not participate in this sunset review, the Department is revoking this antidumping duty order.

DATES: Effective Date: February 4, 2005.

FOR FURTHER INFORMATION CONTACT: Hilary E. Sadler, Esq., Office of Policy, Import Administration, International Trade Administration, U.S. Department of Commerce, 14th Street and Constitution Avenue, NW, Washington, DC 20230; telephone: (202) 482-4340.

SUPPLEMENTARY INFORMATION:

Scope of the Order

The product covered by this order is creatine monohydrate, which is commonly referred to as “creatine.” The chemical name for creatine monohydrate is N (aminoiminomethyl)-N-methylglycine monohydrate. The Chemical Abstracts Service (“CAS”) registry number for this product is 6020-87-7. Creatine monohydrate in its pure form is a white, tasteless, odorless powder, that is a naturally occurring metabolite found in muscle tissue. Creatine monohydrate is provided for in subheading 2925.20.90 of the Harmonized Tariff Schedule of the United States (“HTSUS”). Although the HTSUS subheading and the CAS registry number are provided for convenience and customs purposes, the written description of the scope of this order is dispositive.

Background

On February 4, 2000, the Department issued an antidumping duty order on creatine monohydrate from People's Republic of China (65 FR 5583). Pursuant to section 751(c) of the Tariff Act of 1930, as amended, (“the Act”) and 19 CFR 351, the Department initiated the sunset review of this order by publishing the notice of the initiation in the Federal Register at 70 FR 75 (January 3, 2005). As a courtesy to interested parties, the Department sent letters, via certified and registered mail, to each party listed on the Department's most current service list for this proceeding to inform them of the automatic initiation of a sunset review of this order.

We received no response from the domestic industry by the deadline dates (see 19 CFR 351.218(d)(1)(i)). As a result, the Department determined that no domestic party intends to participate in this sunset review, and on January 27, 2005, we notified the International Trade Commission, in writing, that we intended to issue a final determination revoking this antidumping duty order. See 19 CFR 351.218(d)(1)(iii)(B).

Determination To Revoke

Pursuant to section 751(c)(3)(A) of the Act and 19 CFR 351.218(d)(1)(iii)(B)(3), if no domestic interested party responds to the notice of initiation, the Department shall issue a final determination, within 90 days after the initiation of the review, revoking the order. Because no domestic interested party filed a notice of intent or substantive response, the Department finds that no domestic interested party is participating in this review of this antidumping duty order, and we are revoking this antidumping duty order effective February 4, 2005, the fifth anniversary of the date the order was issued, consistent with 19 CFR 351.222(i)(2)(i) and section 751(d)(2) of the Act.

Effective Date of Revocation

Pursuant to sections 751(c)(3)(A) and 751(d)(2) of the Act, and 19 CFR 351.222(i)(2)(i), the Department will instruct U.S. Customs and Border Protection to terminate the suspension of liquidation of the merchandise subject to this order entered, or withdrawn from warehouse, on or after February 4, 2005. Entries of subject merchandise prior to the effective date of revocation will continue to be subject to suspension of liquidation and antidumping duty deposit requirements. The Department will complete any pending administrative reviews of this order and will conduct administrative reviews of subject merchandise entered prior to the effective date of revocation in response to appropriately filed requests for review.

This five-year (“sunset”) review and notice are in accordance with sections 751(c) and 777(i)(1) of the Act.

Dated: April 4, 2005.
Joseph A. Spetrini,
Acting Assistant Secretary for Import Administration.

[FR Doc. E5-1654 Filed 4-8-05; 8:45 am]

BILLING CODE 3510-DS-P